DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Maternal, Infant, and Early Childhood Home Visiting Program FY 2012 Non-Competing Continuation Progress Report (OMB No. 0915-xxxx)—[New] Activity Code: X02

On March 23, 2010, the President signed into law the Patient Protection and Affordable Care Act (ACA). Section 2951 of the Act amended Title V of the Social Security Act by adding a new section, 511, which authorized the creation of the Maternal, Infant, and Early Childhood Home Visiting Program, (http://frwebgate.access.gpo.gov/cgi-bin/getdoc.cgi?dbname=111_cong_bills&docid=f:h3590enr.txt.pdf, pages 216-225). The Act responds to the diverse needs of children and families in communities at risk and provides an unprecedented opportunity for collaboration and partnership at the Federal, State, and community levels to improve health and development outcomes for at-risk children through evidence-based home visiting programs.

Under this program, $125,000,000 was made available to States on a formula basis in both FY 2010 and 2011. This funding was awarded to support States in implementing their Updated State Plans. Additionally, a competitive funding opportunity announcement (FOA) was issued in June 2011 to allow interested States to apply for one of two possible grants: Development Grants and Expansion Grants. Development Grants are intended to support States and jurisdictions with modest evidence-based home visiting programs to expand the depth and scope of these efforts, with the intent to develop the infrastructure and capacity needed to seek an Expansion Grant in the future. Expansion Grants are intended to recognize States and jurisdictions that had already made significant progress towards a high-quality home visiting program or embedding their home visiting program into a comprehensive, high-quality early childhood system. Thirteen States were awarded Development Grants, and nine States were awarded Expansion Grants. State grantees of both competitive programs will need to complete non-competing continuation (NCC) progress reports in order to secure the release of FY 2012 and out-year grant funds.

The MIECHV Program intends to make approximately $125,000,000 in formula-based funds available to States and jurisdictions in FY 2012 subsequent to the completion of FY11 Progress Reports. The project period is 2 years.

The annual estimate of burden is as follows:

Instrument: A summary of the progress on the following activities | Number of respondents | Responses per respondent | Hours per response | Total burden hours
Accomplishments and Barriers | 54 | 1 | 2 | 108
Program Goals and Objectives | 54 | 1 | 8 | 432
Update on Evaluation Plan | 54 | 1 | 4 | 216
Implementation in Targeted At-Risk Communities | 54 | 1 | 24 | 1296
Progress on Benchmark Reporting | 54 | 1 | 6 | 324
CQI efforts | 54 | 1 | 4 | 216
Program Administration | 54 | 1 | 4 | 216
Total | 54 |  |  | 2808

Email comments to paperwork@hrsa.gov or mail the HRSA Reports Clearance Officer, Room 10-29, Parklawn Building, 5600 Fishers Lane, Rockville, MD 20857. Written comments should be received within 60 days of this notice.

Dated: May 3, 2012.
Reva Harris,
Acting Director, Division of Policy and Information Coordination.

[FR Doc. 2012-11335 Filed 5-10-12; 8:45 am]

BILLING CODE 4165-15-P